DEPARTMENT OF TRANSPORTATION

National Highway Traffic Safety Administration

[Docket No. NHTSA 2005-20046; Notice 1]

Bridgestone/Firestone North America Tire, LLC. Receipt of Application for Decision of Inconsequential Noncompliance

Bridgestone/Firestone North America Tire, LLC has determined that approximately 323 size 445/50R22.5 20 Ply, Load Range ‘L’, Bridgestone S892 tires do not meet the labeling requirements mandated by Federal Motor Vehicle Safety Standard (FMVSS) No. 109, “New Pneumatic Tires.”

Pursuant to 49 U.S.C. 30118(d) and 30120(h), Bridgestone/Firestone has petitioned for a determination that this noncompliance is inconsequential to motor vehicle safety and has filed an appropriate report pursuant to 49 CFR Part 573, “Defect and Noncompliance Reports.” FMVSS No. 109 (S4.3(c)) requires that each tire shall have permanently molded into or onto both sidewalls the maximum load rating of the tire.

This notice of receipt of an application is published under 49 U.S.C. 30118 and 30120 and does not represent any agency decision or other exercise of judgment concerning the merits of the application.

The noncompliance with S4.3(c) relates to the sidewall markings. Bridgestone/Firestone Tochigi, Japan Plant produced approximately 323 tires with incorrect markings. The noncompliant tires were marked: “Max Load 4540 Kg (10,000 lbs.)@ 790 kPa (115 psi).” The correct marking required by FMVSS No. 109 is as follows: “Max Load 4625 Kg (10,200 lbs.)@ 830 kPa (120 psi).”

Bridgestone/Firestone believes that the noncompliance described herein is inconsequential as it relates to motor vehicle safety because these tires are typically used on vehicles with tandem axles having a maximum load carrying capacity of 8,500 lbs. per tire (one side of the axle). Thus the tires can easily accommodate the load they will likely carry. The difference between actual and correct stampings is minimal compared to the practical 8,500 lbs. per tire application. Therefore, Bridgestone/Firestone believes this noncompliance is particularly unlikely to have an adverse affect on motor vehicle safety and is clearly inconsequential in that regard. The noncompliant tires meet or exceed all performance requirements of FMVSS No. 109 and will have no impact on the operational performance or safety of vehicles on which these tires are mounted.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: March 11, 2005.

(49 U.S.C. 301118, 301120; delegations of authority at 49 CFR 1.50 and 501.8)

Issued on: February 2, 2005.
Stephen R. Kratzke,
Associate Administrator for Rulemaking.

[FR Doc. 05-2470 Filed 2-8-05; 8:45 am]

BILLING CODE 4910-59-P